DEPARTMENT OF COMMERCE

International Trade Administration

[C-533-844]

Certain Lined Paper Products From India: Final Results of Countervailing Duty Administrative Review; Calendar Year 2012

AGENCY: Enforcement and Compliance, International Trade Administration, Department of Commerce.

SUMMARY: The Department of Commerce (the Department) completed the administrative review of the countervailing duty (CVD) order on certain lined paper products from India for the January 1, 2012, through December 31, 2012, period of review (POR) ¹ in accordance with section 751(a) of the Tariff Act of 1930, as amended (the Act). The respondent in this administrative review is A.R. Printing & Packaging India Private Limited (AR Printing).² In these final results, the Department made changes to the subsidy rate determined for AR Printing. Our analysis of comments received is contained in the Decision Memorandum accompanying this Federal Register notice.³ The final net subsidy rate for AR Printing is listed below in the “Final Results of Review” section.

¹ The Department published its preliminary results for this administrative review in Certain Lined Paper Products from India: Preliminary Results of Countervailing Duty Administrative Review; Calendar Year 2012, 79 FR 60447 (October 7, 2014) (Preliminary Results), and accompanying Issues and Decision Memorandum, dated September 30, 2014 (Preliminary Decision Memorandum).

² AR Printing is also known as A.R. Printing & Packaging (India) Pvt. Ltd.

³ See “Decision Memorandum for the Final Results of Countervailing Duty Review: Certain Lined Paper Products from India” from Christian Marsh, Deputy Assistant Secretary for Antidumping and Countervailing Duty Operations, to Paul Piquado, Assistant Secretary for Enforcement and Compliance (Decision Memorandum), dated concurrently and hereby adopted by this notice.

DATES: Effective Date: April 13, 2015.

FOR FURTHER INFORMATION CONTACT: John Conniff, AD/CVD Operations, Office III, Enforcement and Compliance, International Trade Administration, U.S. Department of Commerce, 14th Street and Constitution Avenue NW., Washington, DC 20230; telephone (202) 482-1009.

SUPPLEMENTARY INFORMATION:

Background

On September 28, 2006, the Department published in the Federal Register the CVD order on certain lined paper products from India.⁴ On October 7, 2014, the Department published the Preliminary Results of administrative review of the Lined Paper Order for the POR.⁵

⁴ See Notice of Amended Final Determination of Sales at Less Than Fair Value: Certain Lined Paper Products from the People's Republic of China: Notice of Antidumping Duty Orders: Certain Lined Paper Products from India, Indonesia and the People's Republic of China; and Notice of Countervailing Duty Orders: Certain Lined Paper Products from India and Indonesia, 71 FR 56949 (September 28, 2006) (Lined Paper Order).

⁵ See Preliminary Results.

After the Preliminary Results, we issued a third supplemental questionnaire providing the Government of India (GOI) with an opportunity to describe the steps on which it based its claims that AR Printing did not use certain subsidy programs at issue in the review,⁶ to which the GOI responded on October 31, 2014.⁷ On March 4, 2015, we conducted verification at the GOI offices in New Delhi, India.⁸

⁶ See the Department's October 10, 2014, Third Supplemental Questionnaire to the GOI.

⁷ See the GOI's October 31, 2014, Third Supplemental Questionnaire Response.

⁸ See Memorandum to Eric B. Greynolds, Program Manager, AD/CVD Duty Operations, Office III, “Verification of the Questionnaire Responses Submitted by the Government of India,” (March 4, 2015).

Petitioner ⁹ submitted a case brief on March 11, 2015,¹⁰ and the GOI submitted a rebuttal brief on March 16, 2015.¹¹ No interested party requested a hearing.

⁹ Petitioner is the Association of American School Paper Suppliers (Petitioner).

¹⁰ See Petitioner' March 11, 2015, case brief.

¹¹ See the GOI's March 16, 2015, rebuttal brief.

Scope of the Order

The merchandise subject to the order is certain lined paper products. The products are currently classifiable under the Harmonized Tariff Schedule of the United States (HTSUS) item numbers: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive. A full description of the scope of the order is contained in the memorandum from Christian Marsh, Deputy Assistant Secretary for Antidumping and Countervailing Duty Operations to Paul Piquado, Assistant Secretary for Enforcement and Compliance, “Countervailing Duty (CVD) Administrative Review: Certain Lined Paper Products from India.” The Issues and Decision Memorandum is a public document and is on file electronically via Enforcement and Compliance's Antidumping and Countervailing Duty Centralized Electronic Service System (ACCESS).¹² ACCESS is available to registered users at http://access.trade.gov and is available to all parties in the Central Records Unit, room 7046 of the main Department of Commerce building. In addition, a complete version of the Issues and Decision Memorandum can be accessed directly on the Internet at http://enforcement.trade.gov/frn/index.html. The signed Issues and Decision Memorandum and the electronic version of the Issues and Decision Memorandum are identical in content.

¹² On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Methodology

The Department has conducted this review in accordance with section 751(a)(1)(A) of the Tariff Act of 1930, as amended (the Act). For each of the subsidy programs found countervailable, we find that there is a subsidy, i.e., a government-provided financial contribution that gives rise to a benefit to the recipient, and that the subsidy is specific.¹³

¹³ See sections 771(5)(B) and (D) of the Act regarding financial contribution; section 771(5)(E) of the Act regarding benefit; and section 771(5A) of the Act regarding specificity.

In making these findings, we relied, in part, on facts otherwise available on the administrative record because AR Printing: (1) Failed to respond to the Department's requests for necessary information and therefore necessary information was not on the record; (2) withheld requested information; (3) failed to provide requested information by the established deadlines; and (4) significantly impeded this proceeding. See sections 776(a)(1) and (2)(A)-(C) of the Act. Furthermore, because we determine that AR Printing failed to cooperate by not acting to the best of its ability to comply with the Department's requests for information, we drew an adverse inference in selecting from among the facts otherwise available. See section 776(b) of the Act.

Changes Since Preliminary Results

After the Preliminary Results, the Department verified information from the GOI concerning the Market Development Assistance, Status Certificate, and Market Access Initiative programs.¹⁴ Based on the findings at verification and for the reasons set forth in the Decision Memorandum, we find that AR Printing did not use these three programs during the POR. Therefore, we did not include subsidy rates for these programs when determining the AFA attributable to AR Printing.

¹⁴ See Memorandum to Eric B. Greynolds, Program Manager, AD/CVD Duty Operations, Office III, “Verification of the Questionnaire Responses Submitted by the Government of India,” (March 4, 2015) (GOI Verification Report).

For a full description of the analysis concerning the Status Certificate, Market Access Initiative, and Market Development programs, see the Issues and Decision Memorandum, which also incorporates by reference our analysis from the Preliminary Results pertaining to other programs for which the Department's analysis and determinations have not changed. For all other issues, see the Preliminary Decision Memorandum.

Final Results of Review

In accordance with 19 CFR 351.221(b)(5), we calculated the listed net subsidy rate for 2012:

Company | Net subsidy rate
A.R. Printing & Packaging India Pvt. Ltd. (AR Printing) | 37.43 percent ad valorem.

Assessment Rates

The Department intends to issue appropriate assessment instructions directly to U.S. Customs and Border Protection (CBP) 15 days after publication of these final results of review, to liquidate shipments of subject merchandise produced and/or exported by AR Printing, entered, or withdrawn from warehouse, for consumption on or after January 1, 2012, through December 31, 2012, at the ad valorem rate listed above.

Cash Deposit Instructions

The Department intends to instruct CBP to collect cash deposits of estimated CVDs in the amount shown above for AR Printing on shipments of subject merchandise entered, or withdrawn from warehouse, for consumption on or after the date of publication of these final results of review. For all non-reviewed firms, we will instruct CBP to collect cash deposits of estimated CVDs at the most recent company-specific or all-others rate applicable to the company. Accordingly, the cash deposit requirements that will be applied to companies covered by this order, but not examined in this review, are those established in the most recently completed segment of the proceeding for each company. These cash deposit requirements, when imposed, shall remain in effect until further notice.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: April 6, 2015.
Ronald K. Lorentzen,
Acting Assistant Secretary for Enforcement and Compliance.

Appendix

I. Summary

II. Analysis of Programs

Programs Determined to be Countervailable

A. Programs Addressed in the Preliminary Results

1. Advance Authorization Program (AAP)

2. Export Promotion of Capital Goods Scheme (EPCGS)

3. Pre- and Post-Shipment Loans

4. Export Oriented Units (EOUs)

5. State Government of Maharashtra (SGOM) Programs

A. Sales Tax Incentives Provided by SGOM

B. Electricity Duties Exemptions Under the SGOM Package Program of Incentives of 1993

C. Loan Guarantees Based on Octroi Refunds by the SGOM

D. Land for Less than Adequate Remuneration (LTAR)

B. Changes from the Preliminary Results

III. Analysis of Comments

Comment 1: Whether the Department Should Continue to Find Pursuant to Adverse Facts Available that AR Printing Benefited from the Status Certificate Program, Market Access Initiative Program and Market Development Assistance Programs During the POR

IV. Recommendation

[FR Doc. 2015-08423 Filed 4-10-15; 8:45 am]

BILLING CODE 3510-DS-P